DEPARTMENT OF DEFENSE

Department of the Navy

Notice of Intent To Grant Exclusive Patent License; Vista Leak Detection, Inc.

AGENCY: Department of the Navy, DoD.

ACTION: Notice.

SUMMARY: The Department of the Navy hereby gives notice of its intent to grant to Vista Leak Detection, Inc., a revocable, nonassignable, exclusive license to practice in the field of use of tank leak detection for industrial markets in the United States and certain foreign countries, for the Government-owned invention described in U.S. Patent No. 7,143,634 and 7,143,635 and any continuations, divisionals or re-issues thereof.

DATES: Anyone wishing to object to the grant of this license must file written objections along with supporting evidence, if any, not later than November 12, 2008.

ADDRESSES: Written objections are to be filed with the NAVFACESC, EV423, 1100 23rd Avenue, Port Hueneme, CA 93043-4370.

FOR FURTHER INFORMATION CONTACT: Kurt Buehler, Head, Technology Transfer Office, NAVFACESC, EV423, 1100 23rd Avenue, Port Hueneme, CA 93043-4370, telephone: 805-982-4897. Due to U.S. Postal delays, please fax: 805-982-4832, e-mail: kurt.buehler@navy.mil or use courier delivery to expedite response.

(Authority: 35 U.S.C. 207, 37 CFR Part 404.)

Dated: October 21, 2008.
T.M. Cruz,
Lieutenant Commander, Office of the Judge Advocate General, U.S. Navy, Federal Register Liaison Officer.

[FR Doc. E8-25669 Filed 10-27-08; 8:45 am]

BILLING CODE 3810-FF-P